DEPARTMENT OF HEALTH AND HUMAN SERVICES

Centers for Disease Control and Prevention

[30Day-18-0743]

Agency Forms Undergoing Paperwork Reduction Act Review

In accordance with the Paperwork Reduction Act of 1995, the Centers for Disease Control and Prevention (CDC) has submitted the information collection request titled Monitoring Breastfeeding-Related Maternity Care—U.S. hospitals to the Office of Management and Budget (OMB) for review and approval. CDC previously published a “Proposed Data Collection Submitted for Public Comment and Recommendations” notice on November 22, 2017, to obtain comments from the public and affected agencies. CDC received 12 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Monitoring Breastfeeding-Related Maternity Care—U.S. Hospitals (OMB Control No. 0920-0743, Exp. 9/30/2016)—Reinstatement with Change—Division of Nutrition, Physical Activity, and Obesity, National Center for Chronic Disease Prevention and Health Promotion (NCCDPHP), Centers for Disease Control and Prevention (CDC).

Background and Brief Description

Substantial evidence demonstrates the social, economic, and health benefits of breastfeeding for both the mother and infant as well as for society in general. Breastfeeding mothers have lower risks of breast and ovarian cancers and type 2 diabetes, and breastfeeding better protects infants against infections, chronic diseases like diabetes and obesity, and even childhood leukemia and sudden infant death syndrome (SIDS). However, the groups that are at higher risk for diabetes, obesity, and poor health overall persistently have the lowest breastfeeding rates.

Health professionals recommend at least 12 months of breastfeeding, and Healthy People 2020 establishes specific national breastfeeding goals. In addition to increasing overall rates, a significant public health priority in the United States is to reduce variation in breastfeeding rates across population subgroups. Although CDC surveillance data indicate that breastfeeding initiation rates in the United States are climbing, rates for duration and exclusivity continue to lag, and significant disparities persist between African American and white women in breastfeeding rates.

The health care system is one of the most important and effective settings to improve breastfeeding. Recognition of the hospital stay as a crucial influence in later breastfeeding outcomes led to the addition of two objectives in Healthy People 2020 to allow national monitoring of improvements in support for breastfeeding during this time. In 2007, CDC conducted the first national survey of Maternity Practices in Infant Nutrition and Care (known as the mPINC Survey) in health care facilities (hospitals and free-standing childbirth centers). This survey was designed to provide baseline information and to be repeated every two years. The survey was conducted again in 2009, 2011, 2013, and 2015. The survey inquired about patient education and support for breastfeeding throughout the maternity stay as well as staff training and maternity care policies.

Prior to the fielding of the 2009 iteration, CDC was requested to provide a report to OMB on the results of the 2007 collection. In this report, CDC provided survey results by geographic and demographic characteristics and a summary of activities that resulted from the survey. A summary of mPINC findings was also the anchor of all activities related to the CDC August 2011 Vital Signs activity, marking the first time that CDC highlighted improving hospital maternity practices as the CDC-wide public health priority. A summary of mPINC findings provided the basis of the CDC October 2015 Vital Signs report, which updated the 2011 Vital Signs report and concluded that although maternity care policies and practices supportive of breastfeeding are improving nationally; more work is needed to ensure all women receive optimal breastfeeding support during the birth hospitalization.

The planned methodology for the 2018 and 2020 national survey of Maternity Practices in Infant Nutrition and Care (mPINC) will closely match that of the previously administered mPINC surveys in 2007, 2009, 2011, 2013, and 2015. Changes described in this Reinstatement with change include: (1) Deployment of 2018 and 2020 Surveys; (2) data collection via web-survey only (no paper surveys); (3) surveying hospitals only (not birth centers); (4) requesting contact information for two individuals per facility (previously only one); (5) an updated American Hospital Association (AHA) database will be acquired to identify hospitals not currently on the list for recruitment in the 2018 survey. This process will not occur for the 2020 survey, but additional hospitals identified from the new database for 2018 will be included in the 2020 survey; (6) 2018 and 2020 survey content has been updated.

A major strength of the mPINC survey is its structure as an ongoing national census, which does not employ sampling methods. Facilities are identified by using the American Hospital Association (AHA) Annual Survey of Hospitals. Facilities that will be invited to participate in the survey include hospitals that participated in previous iterations and those that were invited but did not participate in the previous iterations, as well as those that have become eligible since the most recent mPINC survey. All hospitals with ≥1 registered maternity bed will be screened via a brief phone call to assess their eligibility, identify additional satellite locations, and identify the appropriate point of contact. The high response rates to the previous iterations of the mPINC survey (82-83% in 2007, 2009, 2011, 2013, and 2015) indicate that the methodology is appropriate and also reflects high interest among the study population.

As with the initial surveys, a major goal of the 2018 and 2020 follow-up surveys is to be fully responsive to hospitals' needs for information and technical assistance. CDC will provide direct feedback to hospital respondents in a customized benchmark report of their results. CDC will use information from the mPINC surveys to identify, document, and share information related to incremental changes in practices and care processes over time at the hospital, state, and national levels. Data are also used by researchers to better understand the relationships between hospital characteristics, maternity-care practices, state level factors, and breastfeeding initiation and continuation rates. Participation in the survey is voluntary, and responses may be submitted through a Web-based system. The total estimated annual Burden Hours are 855. There are no costs to respondents other than their time.

Estimated Annualized Burden Hours
Type of respondents | Form name | Number of respondents | Number of responses per respondent | Average burden per response (in hours)
Maternity Hospital | Screening Call Script Part A | 1,952 | 1 | 1/60
Maternity Hospital | Screening Call Script Part B | 1,672 | 1 | 4/60
Maternity Hospital | mPINC Facility Survey | 1,421 | 1 | 30/60

Jeffrey M. Zirger,
Acting Chief, Information Collection Review Office, Office of Scientific Integrity, Office of the Associate Director for Science, Office of the Director, Centers for Disease Control and Prevention.

[FR Doc. 2018-19012 Filed 8-30-18; 8:45 am]

BILLING CODE 4163-18-P